DEPARTMENT OF ENERGY

Federal Energy Regulatory Commission

[Docket Nos. CP04-343-001 and CP04-343-002]

Paiute Pipeline Company; Notice of Amendments

November 4, 2004.

Take notice that on October 25, 2004, Paiute Pipeline Company (Paiute), PO Box 94197, Las Vegas, Nevada 89193, filed in Docket No. CP04-343-001, an amendment to its initial application for a certificate of public convenience and necessity filed in Docket No. CP04-343-000. With this amendment, Paiute is proposing to acquire and operate LNG storage and associated pipeline facilities and to render LNG Storage service consistent with a settlement filed on October 27, 2004, between Avista Corporation (Avista), Paiute, Public Service Resources Corporation (PSRC), Sierra Pacific Power Company (Sierra), Southwest Gas Corporation (Southwest), Tuscarora Gas Transmission Company (Tuscarora), and Uzal, LLC (Uzal). Paiute additionally requests authorization to render new, long-term LNG storage services under its existing Rate Schedule LGS-1. Take further notice that on October 28, 2004, Paiute filed in Docket No. CP04-343-002 an amendment to revise the proposed levels for each of the prospective storage service customers from what was proposed in Docket No. CP04-343-001, all as more fully set forth in the applications which are on file with the Commission and open to public inspection. The filings may also be viewed on the Web at http://www.ferc.gov using the “eLibrary” link. Enter the docket number excluding the last three digits in the docket number field to access the document. For assistance, call (202) 502-3676 or TYY (202) 502-8659.

In addition to the authorizations sought by Paiute in the subject amendments, the named parties to the settlement request Commission approval of the settlement. Paiute states the settlement resolves five pending Commission proceedings and two court cases. Among the settlements numerous other aspects Paiute requests approval for several key provisions including a determination that acquisition cost of $21,970,000 is a prudent expenditure, approval of an allocation of $12,970,000 to its storage function and $9,000,000 to its transmission function and approval of rolling into Paiute's rates the transmission costs. Paiute notes that Tuscarora and Uzal have filed to withdraw their respective applications in Docket Nos. CP04-344-000, CP04-388-000, CP04-389-000 and CP04-390-000, but indicates that such withdrawals are specifically conditioned on Commission approval of the settlement.

The second amendment, Docket No. CP04-343-002, amends the proposal in Docket No. CP04-343-001 to reflect the newly contracted service agreements as follows:

Customer | Storage capacity | Daily delivery capacity | Effective date of service
Avista | 86,267 Dth | 6,535 Dth | 05/01/2005
Sierra | 303,604 Dth | 23,000 Dth | 04/01/2005
Southwest—N. California | 64,219 Dth | 4,865 Dth | 03/01/2005
Southwest—N. Nevada | 495,782 Dth | 37,559 Dth | 03/01/2005

Any questions regarding this amendment should be directed to Edward C. McMurtrie, Paiute Pipeline Company, PO Box 94197, Las Vegas, Nevada 89193, at (702) 876-7178.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: 5 p.m. eastern time on November 12, 2004.

Magalie R. Salas,
Secretary.

[FR Doc. E4-3208 Filed 11-16-04; 8:45 am]

BILLING CODE 6717-01-P